DEPARTMENT OF TRANSPORTATION

Federal Highway Administration

MAP-21 Comprehensive Truck Size and Weight Limits Study Public Meeting and Outreach Sessions

AGENCY: Federal Highway Administration (FHWA); DOT.

ACTION: Notice of Public Meetings.

SUMMARY: This notice announces two upcoming public meetings on the Moving Ahead for Progress in the 21st Century Act (MAP-21) Comprehensive Truck Size and Weight Limits Study. The Transportation Research Board Committee for Review of the U.S. Department of Transportation (DOT) Truck Size and Weight Limits Study will hold a public meeting that will include presentations from DOT on the Desk Scans produced by the DOT MAP-21 Comprehensive Truck Size and Weight Limits Study. The DOT will hold a second public outreach session to provide an update on the progress of the MAP-21 Comprehensive Truck Size and Weight Limits Study.

DATES: The National Academies' Transportation Research Board Committee for Review of the DOT Truck Size and Weight Study—Public Meeting will be held on n December 5, 2013 from 10:30 a.m. to 6 p.m., e.t. The DOT Comprehensive Truck Size and Weight Limits Study—Second Public Outreach Session (Webinar) will be held on December 18, 2013 from 1 p.m. to 5 p.m., e.t.

ADDRESSES: The National Academies' Transportation Research Board Committee for Review of the DOT Truck Size and Weight Limits Study—Public Meeting will be held at the Keck Center of the National Academies, 500 Fifth Street NW., Washington, DC, Room 101. The DOT Comprehensive Truck Size and Weight Limits Study—Second Public Outreach Session will be held as a Webinar. Additional Webinar details and registration information will be sent to individuals who have registered on the Comprehensive Truck Size and Weight Limits Study email list and will also be posted on FHWA's Truck Size and Weight Web site.

FOR FURTHER INFORMATION CONTACT: Email CTSWStudy@dot.gov, or contact Mr. Thomas Kearney at: (518) 431-8890, Tom.Kearney@dot.gov; Edward Strocko, (202) 366-2997, ed.strocko@dot.gov; Office of Freight Management and Operations, Federal Highway Administration, Department of Transportation, 1200 New Jersey Ave. SE., Washington, DC 20590.

SUPPLEMENTARY INFORMATION:

Background

The MAP-21 (Pub. L. 112-141) requires DOT to conduct a Comprehensive Truck Size and Weight Limits Study (MAP-21 § 32801) addressing differences in safety risks, infrastructure impacts, and the effect on levels of enforcement between trucks operating at or within Federal truck size and weight (TSW) limits and trucks legally operating in excess of Federal limits; comparing and contrasting the potential safety and infrastructure impacts of alternative configurations (including configurations that exceed current Federal TSW limits) to the current Federal TSW law and regulations; and, estimating the effects of freight diversion due to these alternative configurations.

The FHWA has requested a National Research Council (NRC) committee to be convened by TRB to provide a peer review of the Comprehensive Truck Size and Weight Limits Study. This will include two separate peer reviews. The first peer review will assess the Desk Scan Reports based on their thoroughness in reviewing the existing literature, analysis of existing models and data for conducting the comprehensive study, and an overall synthesis of the preceding body of work. The second peer review will be on the extent to which the technical analysis and findings address the issues identified by Congress in Section 32801 of MAP-21.

Public Meetings

On December 5, 2013 from 10:30 a.m. to 6:00 p.m., e.t., the Transportation Research Board Committee for Review of the DOT Truck Size and Weight Limits Study will hold a public meeting at the Keck Center of the National Academies, 500 Fifth Street NW., Washington, DC, Room 101. The program will include presentations from DOT on the Desk Scans produced by the DOT MAP-21 Comprehensive Truck Size and Weight Limits Study. The Transportation Research Board will post the meeting agenda at: http://www8.nationalacademies.org/cp/projectview.aspx?key=49568.

On December 18, 2013 from 1:00 p.m. to 5:00 p.m., e.t., DOT will hold the second public outreach session to provide an update on the MAP-21 Comprehensive Truck Size and Weight Limits Study progress. This session will be held as a Webinar and will include a review of draft Desk Scans, project plans, selected truck configurations, and an updated project schedule. This Webinar will be recorded. Prior to the Webinar, DOT will post documents at: http://www.ops.fhwa.dot.gov/freight/sw/map21tswstudy/index.htm. The DOT will accept comments on these materials through January 3, 2014. Additional Webinar details and registration information will be sent to individuals who have registered on the Comprehensive Truck Size and Weight Limits Study email list and posted on FHWA's Truck Size and Weight Web site.

The DOT invites participation in these meetings by all those interested in the MAP-21 Comprehensive Truck Size and Weight Limits Study.

Issued on: November 22, 2013.
Jeffrey A. Lindley,
Associate Administrator for Operations.

[FR Doc. 2013-28582 Filed 11-27-13; 8:45 am]

BILLING CODE 4910-22-P